FEDERAL COMMUNICATIONS COMMISSION

Notice of Public Information Collection(s) Approved by the Office of Management and Budget

August 18, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: Leslie Haney, Leslie.Haney@fcc.gov, (202) 418-1002.

SUPPLEMENTARY INFORMATION: OMB Control Number: 3060-0207.

OMB Approval Date: August 8, 2008.

Expiration Date: August 31, 2011.

Title: Part 11—Emergency Alert System.

Form No.: Not applicable.

Estimated Annual Burden: 3,533,196 responses; 0.0227035 hours per response; 80,216 hours total per year.

Obligation to Respond: Mandatory (47 CFR Part 11).

Nature and Extent of Confidentiality: There is no need for confidentiality.

Needs and Uses: In the Second Report and Order and Further Notice of Proposed Rulemaking in EB Docket No. 04-296, FCC 07-109, the Commission adopts rules that require states to file new EAS plans with the Commission under certain circumstances, expand the number of private entities covered by EAS, and impose new obligations on private entities. The rules require EAS participants to maintain and keep immediately-available a copy of the EAS operating handbook at normal duty positions or EAS equipment locations; requires state and local EAS plans to be reviewed and approved by the Chief, Public Safety and Homeland Security Bureau prior to implementation; requires manufacturers to include instructions and information on the proper installation, operation and programming of an EAS Encoder, EAS Decoder, or combined unit and a list of all State and county FIPS numbers with each unit sold or marketed in the U.S.; require appropriate logs be kept regarding EAS testing and EAS Decoder malfunctions; allow all EAS participants to submit a written request to the FCC asking to be a Non-Participating National source; require communications common carriers participating in the national level EAS and rendering free service to file semiannual reports on the free service; require entities wishing to voluntarily participate in the national level EAS to submit a written request to the FCC; require written agreements between broadcast stations and cable or wireless cable systems on election not to interrupt EAS messages; require a waiver request be made to the FCC if EAS sources cannot be received and alternate arrangements cannot be made; impose a disclosure requirement on SDARS licensees or DBS providers that are not able to transmit state and local EAS messages; and require logging of various events and tests.

Federal Communications Commission.
Marlene H. Dortch,
Secretary.

[FR Doc. E8-19656 Filed 8-25-08; 8:45 am]

BILLING CODE 6712-01-P